UNITED STATES INSTITUTE OF PEACE

Notice of Meeting

Agency: United States Institute of Peace.

Date/Time: Friday, January 22, 2021 (10:00 a.m.-12:00 p.m.)

Location: Virtual Board Meeting Information: Join by video: https://usip-org.zoomgov.com/j/1610908606?pwd=YmZoRFhvU2pSdm1FajRvbGtvL25XQT09.

Dial-in option: +1-646-828-7666.

Meeting ID: 161 090 8606/Password: 220238.

Status: Open Session—Portions may be closed pursuant to Subsection (c) of Section 552(b) of Title 5, United States Code, as provided in subsection 1706(h)(3) of the United States Institute of Peace Act, Public Law 98-525.

Agenda: January 22, 2021 Board Meeting: Chair's Report; Vice Chair's Report; President's Report; approval of minutes of the October 23, 2020 Board meeting; Reports on USIP Priorities: Afghanistan, Ethiopia, Strategic Stability and Security, Latin America and the Global Fragility Act; Reports from USIP Building, Program, Audit & Finance, and Security Committees.

Contact: Megan O'Hare, Chief of Staff: mohare@usip.org.

Authority: 22 U.S.C. 4605(h)(3).

Dated: January 7, 2021.
Megan O'Hare,
Chief of Staff.

[FR Doc. 2021-00599 Filed 1-13-21; 8:45 am]

BILLING CODE P